DEPARTMENT OF JUSTICE

Notice of Lodging of Consent Decree Under the Comprehensive Environmental Response, Compensation, and Liability Act of 1980 (“CERCLA”)

Consistent with Section 22(d) of the Comprehensive Environmental Response, Compensation, and Liability Act of 1980, as amended (“CERCLA”), 42 U.S.C. 9622(d), and 28 CFR 50.7, notice is hereby given that on September 14, 2007, a proposed Consent Decree with NextiraOne, LLC, d/b/a Black Box Network Services, and Report Investment Corporation, in United States v. NextiraOne, LLC, et al., Civ. No. 07-20654, was lodged with the United States District Court for the Southern District of Florida, Miami Division.

In this action, the United States seeks under Section 122 of CERCLA to enforce obligations in two administrative orders to pay past and oversight costs incurred by the United States in responding to the release and/or threatened release of hazardous substances at and from the Anaconda Aluminum Co./Milgo Electronics Corp. National Priorities List Site (“Site”) in Miami, Florida. Under the proposed Consent Decree, the Defendants will pay $325,000.00 to the Hazardous Substances Superfund in reimbursement of the costs incurred by the United States at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. NextiraOne, LLC, et al., (S.D. Fla.) (DOJ Ref. Nos. 90-11-2-07899/1 and 90-11-2-07899/3).

The Consent Decree may be examined at the Office of the United States Attorney, Southern District of Florida, 99 NE. 4th Street, Miami, Florida 33132-2111 (contact Ann M. St. Peter-Griffith, Esq., 305-961-9419), and at U.S. EPA Region 4, Atlanta Federal Center, 61 Forsyth Street, SW., Atlanta, Georgia 30303 (contact Nadine Orrell, Esq., 404-562-9701). During the public comment period, the Consent Decree may also be examined on the following Department of Justice Web site, http://www.usdoj.gov/enrd/Consent_Decrees.html. A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States v. NextiraOne, LLC, et al., (S.D. Fla.) (DOJ Ref. Nos. 90-11-2-07899/1 and 90-11-2-07899/3), and enclose a check in the amount of $4.00 (25 cents per page reproduction cost) payable to the U.S. Treasury or, if by e-mail or fax, forward a check in that amount to the Consent Decree Library at the stated address.

Ellen Mahan,
Deputy Section Chief, Environmental Enforcement Section, Environment and Natural Resources Division.

[FR Doc. 07-4743 Filed 9-26-07; 8:45 am]

BILLING CODE 4410-15-M